DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Association of American Railroads (Docket Number FRA-2009-0004)

The Association of American Railroads (AAR), on behalf of itself and its member railroads, seeks a waiver of compliance from certain provisions of the Railroad Locomotive Safety Standards, 49 CFR Part 229. Specifically, AAR requests to change the time interval requirements of 49 CFR 229.27 Annual Tests and 49 CFR 229.29 Biennial Tests for all locomotives equipped with 26-L type brake systems, without air dryers, by extending the testing interval to 4 years.

On May 12, 2005, AAR petitioned for an industry-wide waiver of annual and biennial testing requirements for locomotives equipped with both the 26-L brake systems and air dryers. This request was based on the test data gathered by the Canadian railroads and waivers which were previously granted to both the Canadian National and the Canadian Pacific Railroads. On December 2, 2005, FRA granted a conditional waiver to extend the time limits of the required tests to 4 years. AAR believes it is now time to grant a waiver extending the time requirements to 4 years for annual and biennial testing on locomotives that are not equipped with air dryers.

AAR proposes two alternatives for FRA to consider. The first is to expand the current waiver, Docket Number FRA 2005-21325 for locomotives equipped with air dryers to include locomotives not equipped with air dryers. The other option is a distinct test program for locomotives not equipped with air dryers. AAR is amenable to a test program with the following features:

• On locomotives approaching 3 years since the prior annual and biennial tests were performed, a full air test would be run with the valves untouched. On locomotives that pass the air tests, the valves would be marked with either a tag or stencil identifying them as part of the test waiver. The FRA blue card would annotate to reflect that the unit is operating under the test waiver. Any valve replaced during the test period would be sent to Wabtec Corporation for analysis. The railroads would keep track of all brake failures occurring during the test period.

• 6 months into the waiver period, one locomotive operating under the waiver will be selected from the test group of each participating railroad. Eligible locomotives would be locomotives that have not had any air brake valves replaced for a 3½ year time period. These valve sets will be removed from the locomotives and sent to Wabtec for a joint tear-down inspection with FRA and members of the AAR Brake Systems and Locomotive Committees.

• 1 year into the test period, one locomotive will be selected from the test group of each participating railroad. Eligible locomotives would be those that had not had any brake valve replacements for 4 years. These valve sets will be removed and sent to Wabtec for another joint tear-down inspection.

• If it is determined by the tear-down inspections that the lack of an air-dryer has no effect on the performance of the air brake system, FRA would then expand waiver Docket Number FRA-2005-21325 to include locomotives without air dryers.

AAR does not believe any safety hazard will be created, and looks forward to working with FRA on a waiver test program which will demonstrate that an extended time interval between tests will not adversely affect safety on locomotives not equipped with air dryers.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0004) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on April 15, 2009.
Grady C. Cothen, Jr.,
Deputy Associate Administrator for Safety Standards and Program Development.

[FR Doc. E9-9139 Filed 4-20-09; 8:45 am]

BILLING CODE 4910-06-P